FEDERAL ELECTION COMMISSION

Sunshine Act Meeting

FEDERAL REGISTER CITATION NOTICE OF PREVIOUS ANNOUNCEMENT: 83 FR 56844.

PREVIOUSLY ANNOUNCED TIME AND DATE OF THE MEETING: Wednesday, November 14, 2018 at 10:00 a.m.

CHANGES IN THE MEETING: The meeting was continued on Thursday, November 15, 2018.

* * * * *

CONTACT PERSON FOR MORE INFORMATION: Judith Ingram, Press Officer, Telephone: (202) 694-1220.

Laura E. Sinram,
Deputy Secretary of the Commission.

[FR Doc. 2018-25337 Filed 11-15-18; 4:15 pm]

BILLING CODE 6715-01-P